DEPARTMENT OF COMMERCE

International Trade Administration

[A-580-841]

Structural Steel Beams from Korea: Preliminary Results of Antidumping Duty Administrative Review

AGENCY: Import Administration, International Trade Administration, U.S. Department of Commerce.

SUMMARY: In response to a request from the Committee for Fair Beam Imports, Nucor Corp., Nucor-Yamato Steel Co., Steel Dynamics, Inc. and TXI-Chaparral Steel Co., (collectively, petitioners), INI Steel Company (INI), and Dongkuk Steel Mill Co., Ltd. (DSM), the Department of Commerce (the Department) is conducting an administrative review of the antidumping duty order on structural steel beams from the Republic of Korea (Korea). This review covers INI and DSM, manufacturers and exporters of the subject merchandise. The period of review (POR) is August 1, 2004 through July 31, 2005.

We preliminarily determine that INI has sold subject merchandise at less than normal value (NV) during the POR. We also preliminarily determine that DSM has not sold subject merchandise at less than NV. If these preliminary results are adopted in our final results of administrative review, we will instruct U.S. Customs and Border Protection (CBP) to assess antidumping duties on all appropriate entries.

We invite interested parties to comment on these preliminary results. Parties who submit arguments in this segment of the proceeding are requested to submit with the argument: (1) A statement of the issue, (2) a brief summary of the argument and (3) a table of authorities.

EFFECTIVE DATE: September 7, 2006.

FOR FURTHER INFORMATION CONTACT: Maryanne Burke or Steve Bezirganian, AD/CVD Operations, Office 7, Import Administration, International Trade Administration, U.S. Department of Commerce, 14th Street and Constitution Avenue, NW, Room 7866, Washington, DC 20230; telephone (202) 482-5604 or (202) 482-1131 respectively.

SUPPLEMENTARY INFORMATION:

Background

On August 1, 2005 the Department published a notice of opportunity to request an administrative review of the antidumping duty order on structural steel beams from Korea. See Antidumping or Countervailing Duty Order, Finding, or Suspended Investigation; Opportunity to Request Administrative Review, 70 FR 44085 (August 1, 2005). On August 31, 2005 petitioners requested that the Department conduct an administrative review of DSM, a Korean producer of subject merchandise. Also, on August 31, 2005, DSM and INI requested that the Department conduct an administrative review of their sales of subject merchandise during the POR. On September 28, 2005 the Department published a notice of initiation of a review of structural steel beams from Korea covering the period August 1, 2004 through July 31, 2005. See Initiation of Antidumping and Countervailing Duty Administrative Reviews and Request for Revocation in Part, 70 FR 56631 (September 28, 2005). On October 3, 2005 the Department issued its antidumping duty questionnaires to INI and to DSM.

Because we disregarded sales of certain products made by INI at prices below the cost of production (COP) in what was, at that time, the most recently completed review of structural steel beams from Korea (see Structural Steel Beams from Korea; Notice of Final Results of Antidumping Duty Administrative Review, 70 FR 6837 (February 9, 2005)), we had reasonable grounds to believe or suspect INI made sales of the foreign like product at prices below the COP, as provided by section 773(b)(2)(A)(ii) of the Tariff Act of 1930, as amended (the Tariff Act). Therefore, pursuant to section 773(b)(1) of the Tariff Act, from the outset of this review we required INI to respond to section D of the questionnaire. On November 4, 2005, the Department granted approval of INI's October 12, 2005 request to shift its cost reporting period for section D. The Department had not disregarded sales of structural steel beams made by DSM at prices below the COP in the most recently completed review of DSM; therefore, DSM was not initially required to respond to section D of the questionnaire. However, on December 19, 2005 petitioners alleged that DSM sold the foreign like product at prices below its COP. On January 9, 2006, the Department initiated a cost investigation of DSM based upon the determination that petitioners' allegation established reasonable grounds to believe or suspect sales below cost, and instructed DSM to respond to section D of the questionnaire.

From November 2005 through June 2006, INI and DSM submitted timely responses to the initial questionnaire and to the Department's subsequent supplemental questionnaires. Because it was not practicable to complete this review within the normal time frame, on April 17, 2006, we published in the Federal Register our notice of the extension of time limits for this review. Structural Steel Beams from the Republic of Korea; Extension of Time Limit for Preliminary Results of Antidumping Duty Administrative Review, 71 FR 19714 (April 17, 2006). This extension established the deadline for these preliminary results as August 31, 2006.

Period of Review

The POR is from August 1, 2004 to July 31, 2005.

Scope of the Order

The products covered by this order are doubly-symmetric shapes, whether hot- or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes) and “M” shapes. All products that meet the physical and metallurgical descriptions provided above are within the scope of this order unless otherwise excluded. The following products are outside and/or specifically excluded from the scope of this order: structural steel beams greater than 400 pounds per linear foot or with a web or section height (also known as depth) over 40 inches.

The merchandise subject to this review is currently classifiable in the Harmonized Tariff Schedule of the United States (HTSUS) at subheadings: 7216.32.00000, 7216.33.0030, 7216.33.0060, 7216.33.0090, 7216.50.0000, 7216.61.0000, 7216.69.0000, 7216.99.0010, 7216.99.0090, 7228.70.3010, 7228.70.3041 and 7228.70.6000. Although the HTSUS subheadings are provided for convenience and customs purposes, the written description of the merchandise is dispositive.

Product Comparisons

In accordance with section 771(16) of the Tariff Act, we considered all structural steel beams produced by DSM and INI covered by the description in the “Scope of the Order” section of this notice, supra, which were sold in the home market during the reporting period for home market sales, to be the foreign like product for the purpose of determining appropriate product comparisons to structural steel beams products sold in the United States. In making product comparisons, we matched products based on the physical characteristics identified in our questionnaire and reported by DSM and INI as follows (listed in order of preference): hot-formed or cold-formed, shape/size (section depth), strength/grade and whether or not coated. Where there were no sales of identical merchandise in the home market to compare to U.S. sales, we compared U.S. sales to the next most similar foreign like product on the basis of the characteristics and reporting instructions listed in the questionnaire, or to constructed value (CV), as appropriate.

Normal Value Comparisons

To determine whether sales of structural steel beams from Korea to the United States were made at less than NV, we compared the export price (EP) or the constructed export price (CEP) to NV, as described in the “Export Price,” “Constructed Export Price,” and “Normal Value” sections of this notice, below. In accordance with section 777A(d)(2) of the Tariff Act, we compared the EPs and CEPs of individual U.S. transactions to the monthly weighted-average NVs of the foreign like product where there were sales at prices above the COP, as discussed in the “Cost of Production” section below.

Export Price and Constructed Export Price

Section 772(a) of the Tariff Act defines EP as “the price at which the subject merchandise is first sold (or agreed to be sold) before the date of importation by the producer or exporter of the subject merchandise outside of the United States to an unaffiliated purchaser in the United States or to an unaffiliated purchaser for exportation to the United States as adjusted under subsection (c).” Section 772(b) of the Tariff Act defines CEP as “the price at which the subject merchandise is first sold (or agreed to be sold) in the United States before or after the date of importation by or for the account of the producer or exporter of such merchandise or by a seller affiliated with the producer or exporter, to a purchaser not affiliated with the producer or exporter as adjusted under subsections (c) and (d).” For the purposes of this administrative review, INI has classified all of its U.S. sales as EP sales. DSM has classified all of its U.S. sales as CEP sales.

INI

For INI we calculated the price of U.S. sales made prior to importation to unaffiliated purchasers in the United States. We made deductions from the reported gross unit price for movement expenses in accordance with section 772(c)(2)(A) of the Tariff Act; these included, where appropriate, foreign inland freight from plant to warehouse, foreign inland freight from plant/warehouse to port of exportation, foreign warehousing, international freight, U.S. duties, and U.S. brokerage expenses. We made an addition to U.S. price for duty drawback pursuant to section 772(c)(1)(B) of the Tariff Act. See Administrative Review of the Antidumping Duty Order on Structural Steel Beams from Korea: Preliminary Results for INI Steel Company (INI Preliminary Analysis Memorandum) from Steve Bezirganian to the File, dated August 31, 2006.

DSM

For DSM we calculated CEP based on the prices from DSM's U.S. affiliate, Dongkuk International, Inc. (DKA) to unaffiliated purchasers in the United States. We made deductions for movement expenses in accordance with section 772(c)(2)(A) of the Tariff Act; these included, where appropriate, foreign inland freight from the plant to the port of export, foreign brokerage and handling international freight, marine insurance, other U.S. transportation expenses (i.e., U.S. brokerage and handling charges), and U.S. customs duty. Additionally, we made deductions for expenses that bear a direct relationship to the sale in the United States (i.e., credit, and other direct selling expenses) pursuant to section 772(d)(1)(B). We added an amount for duty drawback pursuant to section 772(c)(1)(B) of the Tariff Act.

For CEP sales we also made an adjustment for profit in accordance with section 772 (d)(3) of the Tariff Act. We deducted the profit allocated to expenses deducted under sections 772(d)(1) and 772(d)(2) of the Tariff Act in accordance with sections 772(d)(3) and 772(f) of the Tariff Act. In accordance with section 772(f) of the Tariff Act, we computed profit based on total revenue realized on sales in both the U.S. and home markets, less all expenses associated with those sales. We then allocated profit expenses incurred with respect to U.S. economic activity, based on the ratio of total U.S. expenses to total expenses for both the U.S. and home markets.

Level of Trade

In accordance with section 773(a)(1)(B)(i) of the Tariff Act, to the extent practicable, we determine NV based on sales in the comparison market at the same level of trade (LOT) as the CEP transaction. The NV LOT is that of the starting-price sales in the comparison market or, when NV is based on CV, that of the sales from which we derive selling, general and administrative (SG&A) expenses and profit. For EP sales, the LOT is also the level of the starting price sale, which is usually from the exporter to the importer. For CEP sales, the LOT is the level of the constructed sale from the exporter to the importer.

To determine whether NV sales are at a different LOT than EP or CEP sales, we examine stages in the marketing process and selling functions along the chain of distribution between the producer and the customer. If the comparison market sales are at a different LOT and that difference affects price comparability (as manifested in a pattern of consistent price differences between the sales on which NV is based and comparison-market sales at the LOT of the export transaction), we make an LOT adjustment under section 773(a)(7)(A) of the Tariff Act. Finally, for CEP sales, if the NV level is more remote from the factory than the CEP level and there is no basis for determining whether the differences in the levels between NV and CEP sales affect price comparability, we adjust NV under section 773(a)(7)(B) of the Tariff Act (the CEP offset provision). See, e.g., Final Determination of Sales at Less Than Fair Value: Greenhouse Tomatoes From Canada, 67 FR 8781 (February 26, 2002), and accompanying Issues and Decisions Memorandum at Comment 8; see also Certain Hot-Rolled Flat-Rolled Carbon Quality Steel Products from Brazil; Preliminary Results of Antidumping Duty Administrative Review, 70 FR 17406, 17410 (April 6, 2005), unchanged in Notice of Final Results of Antidumping Duty Administrative Review: Certain Hot-Rolled Flat-Rolled Carbon Quality Steel Products from Brazil, 70 FR 58683 (October 7, 2005).

In identifying LOTs for CEP, we considered only the selling activities reflected in the price after the deduction of expenses and profit under section 772(d) of the Tariff Act. See Micron Tech., Inc. v. United States, 243 F.3d 1301, 1314-1315 (Fed. Cir. 2001). Generally, if the reported LOTs are the same in the home and U.S. markets, the functions and activities of the seller should be similar. Conversely, if a party reports LOTs that are different among categories of sales, the functions and activities should be dissimilar. See Porcelain-on-Steel Cookware from Mexico; Final Results of Administrative Review, 65 FR 30068 (May 10, 2000), and accompanying Issues and Decisions Memorandum at Comment 6.

In implementing these principles in this administrative review, we obtained information from INI and DSM about the marketing stages involved in its reported U.S. and home market sales, including descriptions of the selling activities performed for each channel of distribution.

INI

INI indicated its home market sales were made through two channels (sales to unaffiliated distributors, and sales to affiliated and unaffiliated end-users) and its U.S. sales were through one channel (to unaffiliated U.S. customers). INI did not claim any distinct LOTs, and its descriptions of selling functions indicated very little variation across channels and markets. Based upon the information on record, we have determined that there is only one LOT in both markets for INI. See INI Preliminary Analysis Memorandum.

DSM

DSM claimed one LOT in the home market. DSM reported it sold through one channel of distribution whereby merchandise was sold directly from its factories to unaffiliated customers (distributors and end-users). See DSM's November 7, 2005 section A response at 15. DSM also claimed only one LOT in the U.S. market, reporting it sold through one channel of distribution in the United States. DSM's sales were made directly from its production facilities in Korea to its U.S. affiliate, DKA, which resold the merchandise to the unaffiliated U.S. customer (classified as an end-user). See DSM's November 7, 2005 section A response at 15.

DSM maintains the constructed LOT from DSM to DKA is much less advanced than the actual LOT of home market sales, claiming DSM performs a limited range of selling activities on sales to the United States. See DSM's November 7, 2005 section A response at 19 and DSM's January 20, 2006 supplemental questionnaire response at Appendix SA-16. However, from our analysis of the information on record, we have determined that most selling functions were performed at an equal level of intensity in both the home and U.S. markets. See Administrative Review of the Antidumping Duty Order on Structural Steel Beams from Korea: Preliminary Results for Dongkuk Steel Mill Company, Ltd. (DSM Preliminary Analysis Memorandum) from Maryanne Burke to the File, dated August 31, 2006. Therefore, we found no basis for accepting a distinct, less advanced LOT for U.S. sales than for home market sales and conclude no LOT adjustment or CEP offset is warranted.

Normal Value

A. Selection of Comparison Market

To determine whether there is a sufficient volume of sales in the home market to serve as a viable basis for calculating NV (i.e., the aggregate volume of home market sales of the foreign like product is greater than five percent of the aggregate volume of U.S. sales), we compared the respondents' volume of home market sales of the foreign like product to the volume of U.S. sales of the subject merchandise, in accordance with section 773(a)(1)(B) of the Tariff Act. Because both respondents' aggregate volume of home market sales of the foreign like product was greater than five percent of their aggregate volume of U.S. sales for the subject merchandise, we determined the home market was viable for both INI and DSM. See INI's June 30, 2006 supplemental questionnaire response at Exhibit A-48 and DSM's December 2, 2005 section B response at Exhibit SA-1.

B. Affiliated Party Transactions and Arm's-Length Test

The Department may calculate NV based on a sale to an affiliated party only if it is satisfied that the price to the affiliated party is comparable to the prices at which sales are made to parties not affiliated with the respondent, (i.e., sales at arm's-length). See 19 CFR 351.403(c). Sales to affiliated customers in the home market not made at arm's-length prices are excluded from our analysis because we consider them to be outside the ordinary course of trade. See 19 CFR 351.102(b).

INI reported it had made home market sales to affiliated end-users. To test whether INI's sales to affiliates were made at arm's-length prices, we compared on a model-specific basis the starting prices of sales to affiliated and unaffiliated customers net of all direct selling expenses, discounts and rebates, movement charges, and packing. Where applicable, we also made adjustments to gross unit price for reported billing adjustments. Where prices to the affiliated party were, on average, within a range of 98 to 102 percent of the price of identical or comparable merchandise to the unaffiliated parties, we determined the sales made to the affiliated party were at arm's length. In accordance with the Department's practice, we disregarded sales to affiliated parties that we determined were not made at arm's length. See Antidumping Proceedings: Affiliated Party Sales in the Ordinary Course of Trade, 67 FR 69186, 69194 (November 15, 2002). We found that an INI affiliated home market customer failed the arm's-length test and, in accordance with the Department's practice, we excluded sales to this affiliate from our analysis. DSM reported no sales to affiliated parties in the home market.

C. Cost of Production Analysis

In accordance with section 773(b)(3) of the Tariff Act, we calculated the weighted-average COP for each model based on the sum of material and fabrication costs for the foreign like product, plus amounts for selling expenses, general and administrative (G&A) expenses, interest expenses and packing costs. The Department relied on the COP data reported by INI and DSM; however, we made adjustments to INI's G&A and financial expense ratio (INTEX). See the Department's Cost of Production and Constructed Value Calculation Adjustments for the Preliminary Results - INI Steel Company from Frederick W. Mines to Neal M. Halper (INI Cost Calculation Memorandum), dated August 31, 2006. For DSM, we made an adjustment to its reported INTEX ratio. See the Department's Cost of Production and Constructed Value Calculation Adjustments for the Preliminary Results - Dongkuk Steel Mill Company, Ltd. from Trinette Boyd to Neal M. Halper (DSM Cost Calculation Memorandum), dated August 31, 2006. In determining whether to disregard home market sales made at prices below the COP, we examined, in accordance with sections 773(b)(1)(A) and (B) of the Tariff Act, whether, within an extended period of time, such sales were made in substantial quantities, and whether such sales were made at prices which permitted the recovery of all costs within a reasonable period of time. Pursuant to section 773(b)(2)(C) of the Tariff Act, where less than 20 percent of the respondent's home market sales of a given model were at prices below the COP, we did not disregard any below-cost sales of that model because we determined that the below-cost sales were not made within an extended period of time in “substantial quantities.” Where 20 percent or more of the respondent's home market sales of a given model were at prices less than COP, we disregarded the below-cost sales because: (1) they were made within an extended period of time in “substantial quantities,” in accordance with sections 773(b)(2)(B) and (C) of the Tariff Act, and (2) based on our comparison of prices to the weighted-average COPs for the POR, they were at prices which would not permit the recovery of all costs within a reasonable period of time, in accordance with section 773(b)(2)(D) of the Tariff Act.

To determine whether INI made sales at prices below COP, we compared the product-specific COP figures to home market prices net of reported billing adjustments, discounts and rebates, and applicable movement expenses of the foreign like product as required under section 773(b) of the Tariff Act. Our cost test for INI revealed that for home market sales of certain models, less than 20 percent of the sales volume (by weight) of those models were at prices below COP. Therefore, we retained all such sales observations in our analysis and used them in the calculation of NV. Our cost test also indicated that for other models of subject merchandise produced by INI, 20 percent or more of the home market sales volume (by weight) were sold at prices below COP within an extended period of time and were at prices which would not permit the recovery of all costs within a reasonable period of time. Therefore, in accordance with section 773(b)(1) of the Tariff Act, for INI we excluded these below-cost sales from our analysis and used the remaining above-cost sales in the calculation of NV.

To determine whether DSM made sales at prices below COP, we compared the product-specific COP figures to home market prices net of discounts and rebates and applicable movement charges of the foreign like product as required under section 773(b) of the Tariff Act.

We found DSM did not have any models for which 20 percent or more of sales volume (by weight) were below cost during the POR. Therefore, we did not disregard any of DSM's home market sales and included all such sales in our calculation of NV.

D. Constructed Value

In accordance with section 773(e) of the Tariff Act, for both INI and DSM, we calculated CV based on the sum of the respondent's material and fabrication costs, SG&A expenses, profit, and U.S. packing costs. We calculated the COP component of CV as described above in the “Cost of Production Analysis” section of this notice. In accordance with section 773(e)(2)(A) of the Tariff Act, we based SG&A expenses and profit on the amounts incurred and realized by the respondent in connection with the production and sale of the foreign like product in the ordinary course of trade, for consumption in the foreign country. For selling expenses, we used the weighted-average home market direct and indirect selling expenses. For these preliminary results the Department did not use CV in its margin calculation analysis for either INI or DSM.

E. Price-to-Price Comparisons

We calculated NV based on prices to unaffiliated customers and prices to affiliated customers we determined to be at arm's length for home market sale observations that passed the cost test, and made adjustments, where appropriate, for physical differences in the merchandise in accordance with section 773(a)(6)(C)(ii) of the Tariff Act.

For INI we made adjustments to gross unit price, where applicable, for billing adjustments, discounts and rebates and made deductions, where applicable, for foreign inland freight (i.e., inland freight from plant to distribution warehouse), warehousing expenses and inland freight from plant/distribution warehouse to customer, pursuant to section 773(a)(6)(B) of the Tariff Act. In accordance with sections 773(a)(6)(A) and (B) of the Tariff Act, we deducted home market packing costs and added U.S. packing expenses. In addition, we made adjustments for differences in cost attributable to differences in physical characteristics of INI merchandise pursuant to section 773(a)(6)(C)(ii) of the Tariff Act and 19 CFR 351.411. We also made adjustments for differences in circumstances of sale (COS), where applicable, for commissions, home market credit expenses, warranty expenses, and U.S. imputed credit expenses, in accordance with section 773(a)(6)(C)(iii) of the Tariff Act and 19 CFR 351.410.

For DSM, we based NV on the home market prices to unaffiliated purchasers. We accounted for billing adjustments, interest revenue and discounts and rebates, where appropriate. We made deductions for foreign inland freight, insurance, and handling. We also removed home market packing costs and added U.S. packing costs in accordance with sections 773(a)(6)(A) and (B) of the Tariff Act. In addition, we made adjustments for differences in COS, where applicable, for imputed credit expenses and warranty expenses in accordance with section 773(a)(6)(C)(iii) of the Tariff Act and 19 CFR 351.410.

Currency Conversion

We made currency conversions into U.S. dollars, in accordance with section 773A(a) of the Tariff Act, based on the exchange rates in effect on the dates of the U.S. sales as certified by the Federal Reserve Bank.

Preliminary Results of Review

As a result of our review, we preliminarily determine the weighted-average dumping margins for the period August 1, 2004 through July 31, 2005 to be as follows:

Manufacturer / Exporter | Margin
INI Steel Company | 1.91%
Dongkuk Steel Mill Co., Ltd. | 0.00%

The Department will disclose calculations performed within five days of the date of publication of this notice in accordance with 19 CFR 351.224(b). An interested party may request a hearing within thirty days of publication of these preliminary results. See 19 CFR 351.310(c). Any hearing, if requested, will be held 37 days after the date of publication, or the first business day thereafter, unless the Department alters the date per 19 CFR 351.310(d). Interested parties may submit case briefs or written comments no later than 30 days after the date of publication of these preliminary results of review. Rebuttals to written comments, limited to issues raised in the case briefs and comments, may be filed no later than 35 days after the date of publication of this notice. Parties who submit arguments in these proceedings are requested to submit with the argument: (1) A statement of the issue, (2) a brief summary of the argument, and (3) a table of authorities. Further, we would appreciate it if parties submitting case briefs, rebuttal briefs, and written comments provided the Department with an additional copy of the public version of any such argument on diskette. The Department will issue final results of this administrative review, including the results of our analysis of the issues in any such case briefs, rebuttal briefs, and written comments or at a hearing, within 120 days of publication of these preliminary results.

Assessment

Upon completion of this review the Department will determine, and CBP will assess, antidumping duties on all appropriate entries. In accordance with 19 CFR 351.212(b)(1) we have calculated importer-specific (or, where the importer was unknown, customer-specific) ad valorem assessment rates for merchandise exported by INI and DSM which is subject to this review. The Department will issue appropriate assessment instructions directly to CBP within 15 days of publication of the final results of this review. The Department clarified its “automatic assessment” regulation on May 6, 2003 (68 FR 23954). See Antidumping and Countervailing Duty Proceedings: Assessment of Antidumping Duties, 68 FR 23954 (May 6, 2003). This clarification will apply to entries of subject merchandise during the POR produced by INI and DSM for which they did not know their merchandise would be exported by another company to the United States. In such instances, we will instruct CBP to liquidate unreviewed entries at the All-Others rate if there is no rate for the intermediate company(ies) involved in the transaction.

Revocation of the Order - Cash Deposits Not Required

On March 15, 2006, the United States International Trade Commission (ITC) determined that the revocation of the antidumping duty orders on structural steel beams from Korea would not likely lead to continuation or recurrence of material injury to an industry in the United States within a reasonably foreseeable time. Consequently, the Department has revoked this order, effective August 18, 2005. See Revocation of Antidumping and Countervailing Duty Orders: Structural Steel Beams from Japan and South Korea, 71 FR 15375 (March 28, 2006). Therefore, there will be no need to issue new cash deposit instructions for this administrative review.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act.

Dated: August 31, 2006.
David M. Spooner,
Assistant Secretary for Import Administration.

[FR Doc. E6-14848 Filed 9-6-06; 8:45 am]

BILLING CODE 3510-DS-S